ENVIRONMENTAL PROTECTION AGENCY

[EPA-HQ-OPP-2023-0070; FRL-10841-05-OCSPP]

Pesticide Product Registration; Receipt of Applications for New Active Ingredients May 2023

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before July 26, 2023.

ADDRESSES: Submit your comments, identified by docket identification (ID) number EPA-HQ-OPP-2023-0070, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Biopesticides and Pollution Prevention Division (BPPD) (7511M), main telephone number: (202) 566-1400, email address: BPPDFRNotices@epa.gov; or Dan Rosenblatt, Registration Division (RD) (7505T), main telephone number: (202) 566-2875, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (https://www2.epa.gov/pesticide-registration/public-participation-process-registration-actions).

A. Notice of Receipt—New Active Ingredients

1. EPA File Symbols. 100-RTGI (Spiropidion Technical) and 100-RTGO (A20262 Insecticide). (EPA-HQ-OPP-2022-0899). Applicant: Syngenta Crop Protection, LLC, P.O. Box 18300, Greensboro, NC 27419. Active ingredient: Spiropidion. Product type: Insecticide. Proposed uses: Apple, dry pomace; cattle, meat; citrus fruit, crop group 10-10; cotton, gin byproducts; cottonseed, crop subgroup 20C; cucumber; fruit, pome, crop group 11-10; goat, meat; horse, meat; orange, fruit, citrus oil; sheep, meat; small fruit vine climbing, (except fuzzy kiwifruit), crop subgroup 13-07F; soybean; vegetables, tuberous and corm, crop group 1C; vegetables, brassica, head and stem, crop group 5-16; vegetables, cucurbit, crop group 9 (including commercially grown greenhouse cucumber); vegetables, fruiting, crop group 8-10 (including commercially grown greenhouse tomato, pepper, and eggplant); vegetables, leafy, crop subgroup 4-16B (except watercress); and vegetables, tuberous and corm, crop group 1C. Contact: RD.

2. EPA Registration Number: 264-REEL, 264-REEA. Docket ID number: EPA-HQ-OPP-2022-0980. Applicant: Bayer CropScience, 800 N Lindbergh Blvd., St. Louis, MO 63167. Active ingredient: Fluoxapiprolin. Product type: Fungicide. Proposed use: Tuberous and corm vegetables subgroup 1C; onion, bulb subgroup 3-07A; onion, green subgroup 3-07B; leafy vegetable group 4-16; brassica head and stem vegetable group 5-16; fruiting vegetable group 8-10; cucurbit vegetable group 9; small fruit vine climbing subgroup 13-07F, except fuzzy kiwifruit; leafy petiole vegetable subgroup 22B. Contact: RD.

3. File Symbol: 59639-EAE. Docket ID number: EPA-HQ-OPP-2022-0354. Applicant: Valent U.S.A. LLC, 4600 Norris Canyon Road, P.O. Box 5075, San Ramon, CA 94583. Product name: S-3100 0.46 EC Herbicide. Active ingredient: Herbicide—Epyrifenacil at 5.39%. Proposed use: Canola, field corn, soybean, wheat, fallow land, and non-crop areas. Contact: RD.

4. File Symbol: 59639-EAG. Docket ID number: EPA-HQ-OPP-2022-0354. Applicant: Valent U.S.A. LLC, 4600 Norris Canyon Road, P.O. Box 5075, San Ramon, CA 94583. Product name: V-10488 0.94 SE Herbicide. Active ingredient: Herbicide—Epyrifenacil at 1.09%, flumioxazin at 4.74%, and pyroxasulfone at 4.91%. Proposed use: Soybean, spring wheat, fallow land, and non-crop areas. Contact: RD.

5. File Symbol: 59639-EAL. Docket ID number: EPA-HQ-OPP-2022-0354. Applicant: Valent U.S.A. LLC, 4600 Norris Canyon Road, P.O. Box 5075, San Ramon, CA 94583. Product name: S-3100 technical herbicide. Active ingredient: Herbicide—Epyrifenacil at 98%. Proposed use: Canola, field corn, soybean, and wheat. Contact: RD.

6. File Symbol: 59639-EAU. Docket ID number: EPA-HQ-OPP-2022-0354. Applicant: Valent U.S.A. LLC, 4600 Norris Canyon Road, P.O. Box 5075, San Ramon, CA 94583. Product name: V-10489 1.525 SE herbicide. Active ingredient: Herbicide—Epyrifenacil at 1.05%, mesotrione at 11.1%, and pyroxasulfone at 4.77%. Proposed use: Corn. Contact: RD.

7. File Symbol: 68539-EE. Docket ID number: EPA-HQ-OPP-2023-0255. Applicant: BioWorks, Inc., 100 Rawson Road, Suite 205, Victor, NY 14564. Product name: BW149 WPO. Active ingredient: Insecticide and miticide—Beauveria bassiana strain BW149 at 21%. Proposed use: For use on indoor and outdoor agricultural crops, ornamentals, and in woodland/nature areas/animal habitats to control insect and mite pests. Contact: BPPD.

8. File Symbol: 68539-EN. Docket ID number: EPA-HQ-OPP-2023-0255. Applicant: BioWorks, Inc., 100 Rawson Road, Suite 205, Victor, NY 14564. Product name: BW149 ESO. Active ingredient: Insecticide and miticide—Beauveria bassiana strain BW149 at 12%. Proposed use: For use on indoor and outdoor agricultural crops, ornamentals, and in woodland/nature areas/animal habitats to control insect and mite pests. Contact: BPPD.

9. File Symbol: 68539-ER. Docket ID number: EPA-HQ-OPP-2023-0255. Applicant: BioWorks, Inc., 100 Rawson Road, Suite 205, Victor, NY 14564. Product name: BW149 Technical. Active ingredient: Insecticide and miticide—Beauveria bassiana strain BW149 at 100%. Proposed use: For manufacturing pesticide products. Contact: BPPD.

10. File Symbol: 96029-E. Docket ID number: EPA-HQ-OPP-2023-0221. Applicant: Agrotecnologías Naturales S.L. Ctra.T-214, s/n Km 4,125 43762 Riera de Gaià La Tarragona Spain (c/o SciReg, Inc., 12733 Director's Loop, Woodbridge, VA 22192). Product name: TRICOTEN WP. Active ingredient: Fungicide—Trichoderma atroviride AT10 at 10%. Proposed use: For control of fungal diseases on field tomatoes, lettuce, and grapevine, tomatoes in greenhouses, and for use as a seed treatment for cereal grains. Contact: BPPD.

Authority: 7 U.S.C. 136 et seq.

Dated: June 13, 2023.
Delores Barber,
Director, Information Technology and Resources Management Division, Office of Program Support.

[FR Doc. 2023-13426 Filed 6-23-23; 8:45 am]

BILLING CODE 6560-50-P